DEPARTMENT OF HOMELAND SECURITY

6 CFR Part 115

[ICEB-2012-0003]

RIN 1653-AA65

Standards To Prevent, Detect, and Respond to Sexual Abuse and Assault in Confinement Facilities; Extension of Comment Period

AGENCY: Department of Homeland Security.

ACTION: Notice of proposed rulemaking (NPRM); Extension of comment period.

SUMMARY: This action extends the comment period for an NPRM that DHS published on December 19, 2012. In that document, DHS proposed to issue regulations setting standards to prevent, detect, and respond to sexual abuse and assault in DHS confinement facilities. DHS is extending the comment period for one week due to projected outages at the Federal eRulemaking Portal, http://www.regulations.gov, and the Federal Document Management System. This extension is to ensure that all interested parties have an opportunity to present their views on the proposed rulemaking.

DATES: Comments must be received on or before 11:59 p.m. on February 26, 2013, or reach the Mail or Hand Delivery/Courier address listed below in ADDRESSES on or before that date and time.

ADDRESSES: You may submit comments, identified by DHS Docket No. ICEB-2012-0003, by one of the following methods:

• Federal eRulemaking Portal: http://www.regulations.gov. Follow the instructions for submitting comments.

• Mail: Office of Policy; U.S. Immigration and Customs Enforcement, Department of Homeland Security; Potomac Center North, 500 12th Street SW., Washington, DC 20536; Contact Telephone Number (202) 732-4292. To ensure proper handling, please reference DHS Docket No. ICEB-2012-0003 on your correspondence.

• Hand Delivery/Courier: Office of Policy; U.S. Immigration and Customs Enforcement, Department of Homeland Security; Potomac Center North, 500 12th Street SW., Washington, DC 20536; Telephone: (202) 732-4292 between 9 a.m. and 5 p.m., Monday through Friday, except Federal holidays.

To avoid duplication, please use only one of these three methods. See the “Public Participation” portion of the SUPPLEMENTARY INFORMATION section below for instructions on submitting comments.

FOR FURTHER INFORMATION CONTACT: Alexander Y. Hartman, Office of Policy; U.S. Immigration and Customs Enforcement, Department of Homeland Security; Potomac Center North, 500 12th Street SW., Washington, DC 20536; Telephone: (202) 732-4292 (not a toll-free number).

SUPPLEMENTARY INFORMATION:

I. Submitting Comments

See the SUPPLEMENTARY INFORMATION section in the NPRM (77 FR 75300) for further information on how to comment on the proposals in the NPRM and how DHS will handle comments received. The “Additional Information” section also contains related information about the docket, privacy, and the handling of proprietary or confidential business information. In addition, there is information on obtaining copies of related rulemaking documents.

II. Background

On December 19, 2012, DHS issued an NPRM entitled, “Standards to Prevent, Detect, and Respond to Sexual Abuse and Assault in Confinement Facilities.” 77 FR 75300. The NPRM required commenters to submit their comments for receipt by February 19, 2013. DHS recently learned of upcoming maintenance to the Federal eRulemaking Portal, http://www.regulations.gov, and the Federal Document Management System (FDMS), currently scheduled for February 16-18, 2013. These systems will not be available during that time. To avoid confusion during the end of the comment period and to ensure that all interested parties have an opportunity to comment on the NPRM, DHS is extending the comment period by one week.

Absent unforeseen circumstances, DHS does not anticipate any further extension of the comment period for this rulemaking.

Extension of Comment Period

DHS has determined that a one-week extension of the comment period is sufficient to provide the public adequate time to submit comments, notwithstanding the projected outages to the Federal eRulemaking Portal and FDMS. Accordingly, the public comment period for the NPRM is extended through February 26, 2013.

Christina E. McDonald,
Associate General Counsel for Regulatory Affairs, Department of Homeland Security.

[FR Doc. 2013-02757 Filed 2-6-13; 8:45 am]

BILLING CODE 9110-9B-P